POSTAL SERVICE

Sunshine Act Meetings

TIME AND DATE: October 5, 2021, at 2:30 p.m.

PLACE: Minneapolis, MN.

STATUS: Closed.

MATTERS TO BE CONSIDERED:

Tuesday, October 5, 2021, at 2:30 p.m.

1. Strategic Items

2. Financial and Operational Matters

3. Compensation and Personnel Matters

4. Administrative Items

General Counsel Certification: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2021-21165 Filed 9-24-21; 4:15 pm]

BILLING CODE 7710-12-P